DEPARTMENT OF THE TREASURY

Alcohol and Tobacco Tax and Trade Bureau

27 CFR Part 4

[Docket No. TTB-2016-0011; Notice No. 165]

RIN 1513-AC24

Proposed Addition of New Grape Variety Names for American Wines

AGENCY: Alcohol and Tobacco Tax and Trade Bureau, Treasury.

ACTION: Notice of proposed rulemaking.

SUMMARY: The Alcohol and Tobacco Tax and Trade Bureau (TTB) proposes to amend its wine labeling regulations by adding a number of new names to the list of grape variety names approved for use in designating American wines. TTB also proposes to remove one existing entry and replace it with a slightly different name, and to correct the spelling of another existing entry. The proposed amendments would allow wine bottlers to use these additional approved grape variety names on wine labels and in wine advertisements.

DATES: TTB must receive written comments on or before January 17, 2017.

ADDRESSES: Please send your comments on this proposed rule to one of the following addresses:

• Internet: https://www.regulations.gov (via the online comment form for this notice as posted within Docket No. TTB-2016-0011 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400E, Washington, DC 20005.

See the Public Participation section of this notice for specific instructions and requirements for submitting comments, and for information on how to request a public hearing.

You may view copies of this proposed rule and any comments TTB receives about this proposal at https://www.regulations.gov within Docket No. TTB-2016-0011. A link to that docket is posted on the TTB Web site at https://www.ttb.gov/wine/wine-rulemaking.shtml under Notice No. 165. You also may view copies of this proposed rule and any comments TTB receives about this proposal by appointment at the TTB Information Resource Center, 1310 G Street NW., Washington, DC 20005. Please call 202-453-2270 to make an appointment.

FOR FURTHER INFORMATION CONTACT: Jennifer Berry, Alcohol and Tobacco Tax and Trade Bureau, Regulations and Rulings Division; telephone 202-453-1039, ext. 275.

SUPPLEMENTARY INFORMATION:

Background

TTB Authority

Section 105(e) of the Federal Alcohol Administration Act (FAA Act), 27 U.S.C. 205(e), authorizes the Secretary of the Treasury to prescribe regulations for the labeling of wine, distilled spirits, and malt beverages. The FAA Act requires that these regulations, among other things, prohibit consumer deception and the use of misleading statements on labels, and ensure that labels provide the consumer with adequate information as to the identity and quality of the product.

The Alcohol and Tobacco Tax and Trade Bureau (TTB) administers the regulations promulgated under the FAA Act pursuant to section 1111(d) of the Homeland Security Act of 2002, codified at 6 U.S.C. 531(d). The Secretary has delegated various authorities through Treasury Department Order 120-01 (dated December 10, 2013, superseding Treasury Order 120-01 (Revised), “Alcohol and Tobacco Tax and Trade Bureau,” dated January 24, 2003), to the TTB Administrator to perform the functions and duties in the administration and enforcement of these laws.

Use of Grape Variety Names on Wine Labels

Part 4 of the TTB regulations (27 CFR part 4) sets forth the standards promulgated under the FAA Act for the labeling and advertising of wine. Section 4.23 of the TTB regulations (27 CFR 4.23) sets forth rules for varietal (grape type) labeling. Paragraph (a) of that section sets forth the general rule that the names of one or more grape varieties may be used as the type designation of a grape wine only if the wine is labeled with an appellation of origin as defined in § 4.25. Under paragraphs (b) and (c), a wine bottler may use the name of a single grape variety on a label as the type designation of a wine if not less than 75 percent of the wine (or 51 percent in certain limited circumstances) is derived from grapes of that variety grown in the labeled appellation of origin area. Under paragraph (d), a bottler may use two or more grape variety names as the type designation of a wine if all the grapes used to make the wine are of the labeled varieties and if the percentage of the wine derived from each grape variety is shown on the label (and with additional rules in the case of multicounty and multistate appellations of origin). Paragraph (e) of § 4.23 provides that only a grape variety name approved by the TTB Administrator may be used as a type designation for an American wine and states that a list of approved grape variety names appears in subpart J of part 4.

Within subpart J of part 4, the list of grape variety names and their synonyms approved for use as type designations for American wines appears in § 4.91 (27 CFR 4.91). Alternative grape variety names temporarily authorized for use are listed in § 4.92 (27 CFR 4.92). Finally, § 4.93 (27 CFR 4.93) sets forth rules for the approval of grape variety names.

Approval of New Grape Variety Names

Section 4.93 provides that any interested person may petition the TTB Administrator for the approval of a grape variety name and that the petition should provide evidence of the following:

• That the new grape variety is accepted;

• That the name for identifying the grape variety is valid;

• That the variety is used or will be used in winemaking; and

• That the variety is grown and used in the United States.

Section 4.93 further provides that documentation submitted with the petition may include:

• A reference to the publication of the name of the variety in a scientific or professional journal of horticulture or a published report by a professional, scientific, or winegrowers' organization;

• A reference to a plant patent, if patented; and

• Information pertaining to the commercial potential of the variety, such as the acreage planted and its location or market studies.

Section 4.93 also places certain eligibility restrictions on the approval of grape variety names. TTB will not approve a new name:

• If it has been used previously for a different grape variety;

• If it contains a term or name found to be misleading under § 4.39 (27 CFR 4.39); or

• If it contains the term “Riesling.” (See T.D. ATF-370, 61 FR 522, published 1/8/96.)

Typically, if TTB determines that the evidence submitted with a petition supports approval of the new grape variety name, TTB will send a letter of approval to the petitioner advising the petitioner that TTB will propose to add the grape variety name to the list of approved grape variety names in § 4.91 at a later date. Those letters are considered administrative approvals, and they are posted on TTB's Web site once a grape variety is approved. After one or more approvals have been issued, a notice of proposed rulemaking will be prepared for publication in the Federal Register proposing to add the name(s) to the § 4.91 list, with opportunity for public comment. In the event that one or more comments or other information demonstrate the inappropriateness of an approval action, TTB will determine not to add the grape variety name in question to the list and will advise the original petitioner that the name is no longer approved.

Since the last revision of the approved grape variety names list in § 4.91, (T.D. TTB-95, 76 FR 66625, published October 27, 2011), TTB has received and administratively approved a number of petitions for new grape variety names. In this notice, TTB is proposing to add a number of grape variety names to the list of names in § 4.91 to reflect those approvals. The evidence that the petitioners submitted in support of each name—and that formed the basis for the TTB approval—is summarized below. TTB is requesting comments on the appropriateness of these names for use on American wine labels.

TTB is also requesting comments on one petitioned-for grape name that TTB did not approve administratively. The petition for this name—Phoenix—is also discussed below. In addition, TTB has received a petition requesting that one grape variety name currently listed in § 4.91—Geneva Red 7—be removed from the list and replaced with the name “Geneva Red.” TTB is requesting comments on this petition.

Grape Name Petitions

Amigne

White Heron Cellars, Quincy, Washington, petitioned TTB to add “Amigne” to the list of approved grape variety names. Amigne is a white Vitis vinifera grape variety long grown in Switzerland, but relatively new to the United States. The petitioner stated that it has grown the variety since the 1990s, and submitted written verification from a plant pathologist identifying its vines as Amigne. As evidence of the variety's acceptance, name validity, and usage, the petitioner also submitted references to Amigne from a Swiss publication “Principaux cépages cultivés en Suisse” (Principle Varieties Cultivated in Switzerland), published by the Swiss Federal Agricultural Research Station at Changins. Based on this evidence, TTB proposes to add Amigne to the list of grape variety names in § 4.91.

Arandell

Jessica Lyga, Plant Varieties & Germplasm Licensing Associate, Center for Technology Enterprise and Commercialization, Cornell University, petitioned TTB to add “Arandell” to the list of approved grape varieties. Arandell, a red wine grape developed at Cornell, is a cross between two interspecific hybrid selections from Cornell's grape breeding program. According to a Cornell University bulletin submitted by the petitioner, Arandell is a “grape characterized by a high degree of natural disease resistance and producing dark red wines with clean, berry aromas.” The petitioner also submitted Arandell's listing in the National Grape Registry, published by the University of California at Davis (UC Davis), which notes the variety is available for sale at two commercial nurseries in New York. Based on this evidence, TTB proposes to add Arandell to the list of grape variety names in § 4.91.

Aromella

Jessica Lyga, Plant Varieties & Germplasm Licensing Associate, Center for Technology Enterprise and Commercialization, Cornell University, petitioned TTB to add “Aromella” to the list of approved grape varieties. Aromella is a white wine grape developed at Cornell from a cross between Traminette and Ravat 34. According to a Cornell University bulletin submitted by the petitioner, Aromella is “a winter-hardy white wine grape with high potential productivity and excellent aromatic muscat wine characteristics.” The petitioner also submitted Aromella's listing in UC Davis's National Grape Registry, which notes the variety is available for sale at three commercial nurseries in New York and California. Based on this evidence, TTB proposes to add Aromella to the list of grape variety names in § 4.91.

Arvine

White Heron Cellars, Quincy, Washington, petitioned TTB to add “Arvine” to the list of approved grape variety names. Arvine is a white Vitis vinifera variety originally from Switzerland and northern Italy. The petitioner stated that it has grown Arvine since the 1990s, having obtained its vines from Foundation Plant Services (FPS) at UC Davis. FPS currently sells the variety. As evidence of the variety's acceptance, name validity, and usage, the petitioner also submitted references to Arvine from a Swiss publication “Principaux cépages cultivés en Suisse” (Principle Varieties Cultivated in Switzerland), published by the Swiss Federal Agricultural Research Station at Changins. Based on this evidence, TTB proposes to add Arvine to the list of grape variety names in § 4.91.

Bianchetta trevigiana

Laraneta Winery, Templeton, California, petitioned TTB to add “Bianchetta trevigiana” to the list of approved grape variety names. Bianchetta trevigiana is a white Vitis vinifera variety originally from northern Italy. To satisfy the requirements of § 4.93, the petitioner submitted a letter from UC Davis's FPS stating that DNA testing done on one of the petitioner's vines showed it to be of the Bianchetta trevigiana variety. According to UC Davis's National Grape Registry, the variety is available for sale at two California nurseries. Based on this evidence, TTB proposes to add Bianchetta trevigiana to the list of grape variety names in § 4.91.

Black Spanish

Majek Vineyard and Winery, San Antonio, Texas, petitioned TTB to add “Black Spanish” to the list of approved grape variety names as a synonym for the currently listed “Lenoir.” Black Spanish is a hybrid red wine grape grown in Texas and other southern States. As evidence of the validity of the name “Black Spanish” to identify the variety, the petitioner submitted links to several Web sites that refer to the variety by that name. These links include one to UC Davis's National Grape Registry, which lists “Black Spanish” as a common synonym for Lenoir, and three links to nursery Web sites that list the variety by the name “Black Spanish.” If Black Spanish is approved, it will appear as a synonym for Lenoir in § 4.91. TTB believes that the evidence warrants the approval of Black Spanish as a valid name commonly used in the United States for this variety. However, we welcome comments on this issue. Based on the above evidence, TTB proposes to add the name “Black Spanish” to the list of grape variety names in § 4.91 to be identified with its synonym “Lenoir.” TTB also received a petition for approval of the name “Jacquez,” another synonym for Lenoir (see discussion below under “Jacquez”).

Bluebell

Clover Meadow Winery, Shell Lake, Wisconsin, petitioned TTB to add “Bluebell” to the list of approved grape variety names. Bluebell is an interspecific cross developed at the University of Minnesota in 1944. A very cold-hardy variety, it is commonly used for table grapes, juice, and jelly. The petitioner, however, produces wine from the variety. To satisfy the requirements of § 4.93, the petitioner submitted Web site references to Bluebell from the University of Minnesota and UC Davis's National Grape Registry, which lists five nurseries selling the variety. Based on this evidence, TTB proposes to add the name “Bluebell” to the list of grape variety names in § 4.91.

Bourboulenc

Tablas Creek Vineyard, Paso Robles, California, petitioned TTB to add “Bourboulenc” to the list of approved grape variety names. Bourboulenc is a white Vitis vinifera variety associated with the Rhône region of France, where it is one of the thirteen authorized varieties permitted in the Châteauneuf-du-Pape appellation of origin. As part of the petition, Tablas Creek submitted a letter of support from the director of FPS at UC Davis, Dr. Deborah Golino. In her letter, Dr. Golino states that Bourboulenc plant material was imported from France to FPS, where it was tested and found to be free of viruses, then planted in FPS's Russell Ranch Foundation Vineyard. The variety is currently available for sale to the public at FPS. In addition to the letter from Dr. Golino, the petitioner also submitted several published references to Bourboulenc. Based on this evidence, TTB proposes to add Bourboulenc to the list of grape variety names in § 4.91.

Brachetto

Pete Anderson of Eusinus Vineyard and Witch Creek Winery, Carlsbad, California, petitioned TTB to add “Brachetto” to the list of approved grape variety names. Brachetto is a red Vitis vinifera variety originally from the Piedmont region of Italy. The petitioner states he has grown Brachetto for several years at his Eusinus Vineyard and is aware of one other California winery growing and producing wine from the variety. To satisfy the requirements of § 4.93, the petitioner submitted a letter from FPS at UC Davis stating that its DNA analysis of his vine sample showed it to be a match for samples of Brachetto held by the National Clonal Germplasm Repository at UC Davis. Based on this evidence, TTB proposes to add Brachetto to the list of grape variety names in § 4.91.

By George

Girouard Vines, Tulsa, Oklahoma, petitioned TTB to add “By George” to the list of approved grape variety names. By George is a red wine grape developed by George E. Girouard by crossing Ruby Cabernet with Vitis aestivalis JG #3. As evidence of the grape's acceptance and name validity, the petitioner submitted a listing for By George from the May 2012 HortScience's Register of New Fruit and Nut Cultivars. The petitioner states that the variety is currently grown in Oklahoma and California, and it planned to release a wine made from By George in 2015. Based on this evidence, TTB proposes to add By George to the list of grape variety names in § 4.91.

Caladoc

RBZ Vineyards, Templeton, California, petitioned TTB to add “Caladoc” to the list of approved grape variety names. Caladoc is a red Vitis vinifera grape developed in France in 1958 as a crossing of Grenache and Malbec. To satisfy the requirements of § 4.93, the petitioner submitted a listing for Caladoc from UC Davis's National Grape Registry, which indicates that the variety is for sale from FPS. The petitioner also submitted pages from a California nursery catalogue indicating that it sells the variety. Additionally, the petitioner states that it and several other U.S. vineyards grow Caladoc. Based on this evidence, TTB proposes to add Caladoc to the list of grape variety names in § 4.91.

Caprettone

Belle Fiore Winery, Ashland, Oregon, petitioned TTB to add “Caprettone” to the list of approved grape variety names. Caprettone is a white Vitis vinifera originally from southern Italy. As evidence of the grape's acceptance and name validity, the petitioner submitted a listing for Caprettone from UC Davis's National Grape Registry. According to this listing, Caprettone was initially released by UC Davis's FPS under the name “Coda di Volpe”; however, subsequent DNA testing correctly identified the variety as Caprettone. The National Grape Registry currently lists three nurseries selling the variety. Based on this evidence, TTB proposes to add Caprettone to the list of grape variety names in § 4.91.

Chisago

Wine Haven, Inc., Chisago City, Minnesota, petitioned TTB to add “Chisago” to the list of approved grape variety names. Chisago is a red wine variety developed by the petitioner from a crossing of St. Croix and Swenson Red. Noteworthy for its winter hardiness, the variety can survive temperatures that reach minus 40 degrees Fahrenheit. To satisfy the requirements of § 4.93, the petitioner submitted copies of its U.S. Plant Patent and U.S. Trademark Registration for Chisago, along with two articles referencing the variety and a list of wine competition awards won by its Chisago wine. According to the petitioner, several other Minnesota vineyards also are growing Chisago, and two nurseries planned to sell the variety in 2012. Based on this evidence, TTB proposes to add Chisago to the list of grape variety names in § 4.91.

Coda di Volpe

Pete Anderson of Eusinus Vineyard and Witch Creek Winery, Carlsbad, California, petitioned TTB to add “Coda di Volpe” to the list of approved grape variety names. Coda di Volpe is a white Vitis vinifera variety originally from the Campania region of Italy. To satisfy the requirements of § 4.93, the petitioner cited three published references to Coda di Volpe and notes that UC Davis's Foundation Plant Services imported Coda di Volpe vines in 2000. According to the petitioner, five California vineyards and wineries grow or make wine from the variety. UC Davis's National Grape Registry lists three California nurseries that sell Coda di Volpe vines to the public. Based on this evidence, TTB proposes to add Coda di Volpe to the list of grape variety names in § 4.91.

Diana

John H. Brahm III, winemaster at Arbor Hill Winery, Naples, New York, petitioned TTB to add “Diana” to the list of approved grape variety names. Diana is a red hybrid variety that has grown in the Finger Lakes region since the mid-1800s. To satisfy the requirements of § 4.93, the petitioner submitted an excerpt from the 1908 book “The Grapes of New York,” which describes Diana as a seedling of Catawba that ripens early and is thus good for cold climates. The petitioner also submitted a photo of a Widmer's Wine Cellars label for a Diana wine, vintage 1942. The petitioner states that Arbor Hill has recently produced a Diana wine which it intends to release for sale. TTB notes that the U.S. Department of Agriculture's Plant Genetic Resources Unit in Geneva, New York, maintains Diana in its collection and distributes the variety. Based on this evidence, TTB proposes to add Diana to the list of grape variety names in § 4.91.

Esprit

Deja Vine Vineyards & Winery, Martelle, Iowa, petitioned TTB to add “Esprit” to the list of approved grape variety names. Esprit, a white interspecific hybrid, was developed by Elmer Swenson as a cross between Villard blanc and Edelweiss. To satisfy the requirements of § 4.93, the petitioner submitted two publications from Iowa State University describing the viticultural characteristics of Esprit and the quality of its wine. Esprit is also listed in UC Davis's National Grape Registry, which notes that a New York nursery sells the variety. Based on this evidence, TTB proposes to add Esprit to the list of grape variety names in § 4.91.

Falanghina

Pete Anderson of Eusinus Vineyard and Witch Creek Winery, Carlsbad, California, petitioned TTB to add “Falanghina” to the list of approved grape variety names. Falanghina is a white Vitis vinifera grape variety originally from the Campania region of Italy. As evidence, the petitioner cited a number of wine publications that reference Falanghina. The variety is also listed in UC Davis's National Grape Registry, which names four nurseries selling the variety. According to the petitioner, four California vineyards and wineries are either growing Falanghina or producing wine from the variety. Based on this evidence, TTB proposes to add Falanghina to the list of grape variety names in § 4.91.

Geneva Red/Geneva Red 7

Jessica Lyga of Cornell University petitioned TTB to change the currently approved grape variety name “Geneva Red 7” to “Geneva Red.” Geneva Red 7 was added to § 4.91 by T.D. TTB-95 as the result of a petition from a New York winery (see 76 FR 66625, October 27, 2011). The Geneva Red petition states that Cornell University, the developer and owner of the grape variety, does not endorse the use of the name “Geneva Red 7” and notes that the petition for that name was submitted without its approval. The petition states that Cornell is concerned that the “7” in “Geneva Red 7” is confusing and leads the consumer to question whether there are similarly named grape varieties, such as Geneva Red 1, 2, 3, etc.

As evidence for the name Geneva Red, the petitioner submitted a 2003 Cornell publication referencing the variety as “Geneva Red,” along with the variety's entry from UC Davis' National Grape Registry which lists the variety as “Geneva Red.” Based on this evidence, TTB granted administrative approval to the name “Geneva Red” as a valid synonym for “Geneva Red 7,” but advised the petitioner that it could not remove the name “Geneva Red 7” from § 4.91 without rulemaking. The petitioner has subsequently submitted a list of four commercial vineyards and wineries that use the name “Geneva Red” for the grape variety on their Web sites. Because the evidence indicates that this is the name currently used in the marketplace for the variety, TTB proposes to remove the name “Geneva Red 7” from § 4.91 and replace it with “Geneva Red.” However, TTB welcomes comments on the validity of the name, Geneva Red, as an approved name for this grape variety.

TTB further proposes to allow the use of the grape variety name “Geneva Red 7” for a period of 1 year after publication of a final rule on this matter if Geneva Red 7 is removed based on sufficient evidence from comments received. If this proposal is adopted as a final rule, those holding a certificate of label approval (COLA) with the name “Geneva Red 7” would have sufficient time to obtain new labels. At the end of the 1-year period, holders of approved “Geneva Red 7” labels would be required to discontinue their use as their COLA approval will be revoked by operation of the final rule (see 27 CFR 13.51 and 13.72(a)(2)). TTB believes the 1-year period will provide such label holders with adequate time to use up their supply of previously approved “Geneva Red 7” labels. This proposal appears in a new paragraph (e) of 27 CFR 4.92.

Godello

California American Terroirs, Sonoma, California, petitioned TTB to add “Godello” to the list of approved grape variety names. Godello is a white Vitis vinifera variety native to Spain and Portugal. To satisfy the requirements of § 4.93, the petitioner cited several published references to the Godello variety in professional journals and wine reference books. These include the article “Prospection and identification of grapevine varieties cultivated in north Portugal and northwest Spain,” J.P. MARTÍN, et al., from the journal “Vitis,” 50 (1), pp. 29-33 (2011), and “Wine Grapes,” Jancis Robinson, ed. (2012), p. 413. The petitioner also submitted evidence that a California nursery sells the variety. According to the petitioner, a number of wineries in California and Oregon grow Godello. Based on this evidence, TTB proposes to add Godello to the list of grape variety names in § 4.91.

Gros Manseng

Tablas Creek Vineyard, Paso Robles, California, petitioned TTB to add “Gros Manseng” to the list of approved grape variety names. Gros Manseng is a white Vitis vinifera variety of French origin. As evidence of the variety's acceptance and name validity, the petitioner submitted several published references to Gros Manseng, including the “Oxford Companion to Wine” (1999 edition) and Pierre Galet's “Cépage et Vignobles de France.” Tablas Creek Vineyards imported Gros Manseng into the New York Agricultural Experiment Station in Geneva, New York, in 2000. After it was indexed and declared virus free in 2003, it was shipped bare root to the petitioner. The petitioner states it has provided Gros Manseng budwood to a California nursery, and TTB is aware of two other nurseries selling the variety. Based on this evidence, TTB proposes to add Gros Manseng to the list of grape variety names in § 4.91.

Humagne Rouge

White Heron Cellars, Quincy, Washington, petitioned TTB to add “Humagne Rouge” to the list of approved grape variety names. Humagne Rouge is a red Vitis vinifera grape variety long grown in Switzerland, but relatively new to the United States. The petitioner stated that it obtained its Humagne Rouge vines from UC Davis's FPS in the 1990s, and the petition included an entry for the variety from a 1997 FPS catalogue showing that the variety was sold in the United States. As evidence of the variety's acceptance, name validity, and usage, the petitioner also submitted references to Humagne Rouge from a Swiss publication, “Principaux cépages cultivés en Suisse” (Principle Varieties Cultivated in Switzerland), published by the Swiss Federal Agricultural Research Station at Changins. Based on this evidence, TTB proposes to add Humagne Rouge to the list of grape variety names in § 4.91.

Jacquez

Haak Vineyards & Winery, Santa Fe, Texas, petitioned TTB to add “Jacquez” to the list of approved grape variety names as a synonym for the currently listed “Lenoir.” Jacquez is a hybrid red wine grape grown in Texas and other southern States, where it is also known by the name “Black Spanish.” The petitioner states it has used the name “Jacquez” on its wine labels since 2003; as a result, its customers identify the wine by that name. As evidence of the validity of the name “Jacquez” to identity the variety, the petitioner submitted an entry for Jacquez from UC Davis's National Grape Registry, which lists “Black Spanish” and “Lenoir” as synonyms. The petitioner also cites a number of wine reference books that refer to the variety as “Jacquez,” including Hugh Johnson's “Story of Wine” (2002 edition, p. 439).

TTB also received a petition for “Black Spanish.” (See discussion above under “Black Spanish.”) If Jacquez and Black Spanish are both approved, three names for one variety will appear in § 4.91. TTB believes that the evidence warrants the approval of Jacquez and Black Spanish as they are both valid names commonly used in the United States for this variety. However, we welcome comments on this issue. Based on the above evidence, TTB proposes to add the name “Jacquez” to the list of grape variety names in § 4.91 to be identified with its synonyms “Black Spanish” and “Lenoir.”

Jupiter

Yamhalis Vineyard, Yamhill, Oregon, petitioned TTB to add “Jupiter” to the list of approved grape variety names. Jupiter is a hybrid grape developed by the University of Arkansas and released for commercial production in 1999. Although it is most commonly used as a table grape, the petitioner states it produces a good dry red wine. To satisfy the requirements of § 4.93, the petitioner submitted an article on Jupiter in the scientific journal HortScience (Vol. 43 (7)), a copy of the plant patent for Jupiter, and a letter from Dr. John R. Clark, one of Jupiter's breeders. According to UC Davis's National Grape Registry, the variety is available from at least four U.S. nurseries. Based on this evidence, TTB proposes to add the name “Jupiter” to the list of grape variety names in § 4.91.

King of the North

Clover Meadow Winery, Shell Lake, Wisconsin, petitioned TTB to add “King of the North” to the list of approved grape variety names. A black grape, King of the North is an interspecific hybrid of unknown origin. Although it is most frequently grown for table grapes, juice, and jelly, it is also used to produce red wine by the petitioners and other wineries. As supporting evidence, the petitioner submitted Web site references to King of the North from Iowa State University and UC Davis's National Grape Registry, which lists three nurseries selling the variety. Based on this evidence, TTB proposes to add the name “King of the North” to the list of grape variety names in § 4.91.

Lambrusca di Alessandria

Pete Anderson of Witch Creek Winery, Carlsbad, California, petitioned TTB to add “Lambrusca di Alessandria” to the list of approved grape variety names. Lambrusca di Alessandria is a red Vitis vinifera variety of Italian origin. According to the petitioner, Lambrusca di Alessandria is a different variety from the Lambrusco currently listed in § 4.91. He cites as evidence a March-April 2006 article from the Italian publication “Italus Hortus,” titled “Lambruschi from Piedmont: Historical investigations, fingerprinting and genetic relationships with other autochthonous Italian grapes (Vitis vinifera L.),” by D. Torello Marinoni; S. Raimondi; P. Boccacci; and A. Schneider. The petitioner also cites “Vitigni d'Italia,” by Antonio Calò, Attilio Scienza, and Angelo Costacurta (2001) as a reference book that names and identifies the variety as distinctive from other Lambruschi varieties. Additionally, the petitioner notes that Lambrusca di Alessandria is maintained, by that name, in the collection of the U.S. Department of Agriculture's National Clonal Germplasm Repository in Davis, California.

When the petitioner submitted a grapevine sample that he thought was of the Nebbiolo variety to UC Davis's FPS for DNA analysis, he was informed that the sample was actually Lambrusca di Alessandria. This result was subsequently confirmed by Dr. Anna Schneider of the Istituto di Virologia Vegetale Sezione di Grugliasco, Torino, Italy. The petitioner reports that seven vineyards and wineries in California are currently growing Lambrusca di Alessandria or producing wine from it. Based on this evidence, TTB proposes to add the name “Lambrusca di Alessandria” to the list of grape variety names in § 4.91.

Loureiro

Lehrman Beverage Law petitioned TTB to add “Loureiro” to the list of approved grape variety names. Loureiro is a white Vitis vinifera variety originally cultivated in Spain and Portugal. To satisfy the requirements of § 4.93, the petitioner submitted the listing for Loureiro in UC Davis's National Grape Registry, along with evidence that at least two California nurseries sell the variety and a number of California wineries produce wine from it. Based on this evidence, TTB proposes to add Loureiro to the list of grape variety names in § 4.91.

Madeleine Sylvaner

Comfort Farm and Vineyard, Langley, Washington, petitioned TTB to add “Madeleine Sylvaner” to the list of approved grape variety names. Madeleine Sylvaner is a white Vitis vinifera variety that grows well in cooler climates. As evidence, the petitioner cited a Washington State University publication entitled “Growing Grapes for Wine and Table in the Puget Sound Region” that discusses Madeleine Sylvaner as a variety well suited to the Puget Sound climate. The petitioner states that it has grown the variety for 12 years and provided Madeleine Sylvaner grapes to other wineries in the Puget Sound region. TTB is aware of other Washington wineries producing wine from this variety. Based on this evidence, TTB proposes to add Madeleine Sylvaner to the list of grape variety names in § 4.91.

Marquis

Wyldewood Cellars Winery, Mulvane, Kansas, petitioned TTB to add “Marquis” to the list of approved grape variety names. Marquis is a white hybrid variety developed at Cornell University as a cross of the Athens and Emerald Seedless varieties. To satisfy the requirements of § 4.93, the petitioner submitted a copy of Cornell's 1999 plant patent for Marquis, a 1996 bulletin on Marquis issued by Cornell, and an article about the variety from the journal HortScience (Vol. 32 (1)). Marquis is also listed in UC Davis's National Grape Registry and is available from at least four commercial nurseries. Based on this evidence, TTB proposes to add Marquis to the list of grape variety names in § 4.91.

Marselan

RBZ Vineyards, Templeton, California, petitioned TTB to add “Marselan” to the list of approved grape variety names. Marselan is a red Vitis vinifera variety developed in France as a crossing of Cabernet Sauvignon and Grenache noir. The petitioner submitted a listing for Marselan from UC Davis's National Grape Registry, which indicates that the variety is available for sale from FPS. The petitioner also submitted pages from a California nursery catalogue indicating that it also sells the variety. Additionally, the petitioner states that it and several other U.S. vineyards grow Marselan. Based on this evidence, TTB proposed to add Marselan to the list of grape variety names in § 4.91.

Mustang

Natalia Winery, Natalia, Texas, petitioned TTB to add “Mustang” to the list of approved grape names. Mustang (Vitis mustangensis) is a variety native to the United States that grows wild in areas of Texas, Oklahoma, Arkansas, Louisiana, and Alabama. To satisfy the requirements of § 4.93, the petitioner cited a number of internet Web sites that reference the Mustang variety, including that of the U.S. Department of Agriculture's Natural Resources Conservation Service and Texas A & M University's Department of Horticulture. The petitioner states that it harvests ½ ton of Mustang grapes with which it produces a 100% Mustang wine. Additionally, TTB has found evidence that at least one Texas nursery sells Mustang vines. Based on this evidence, TTB proposes to add Mustang to the list of grape variety names in § 4.91.

Petite Pearl

Tom Plocher of Plocher Vines, Hugo, Minnesota, petitioned TTB to add “Petite Pearl” to the list of approved grape names. Petite Pearl, a red hybrid known for its cold hardiness, was developed by Mr. Plocher from a 1996 cross of MN 1094 and E.S. 4-7-26. To satisfy the requirements of § 4.93, the petitioner submitted a January 2013 article about Petite Pearl published by Midwest Wine Press entitled “Coming Soon: A New Red Wine That's a Pearl,” along with evidence that two nurseries (in Minnesota and Vermont) sell the variety. He also named four wineries producing Petite Pearl wine. Based on this evidence, TTB proposes to add Petite Pearl to the list of grape variety names in § 4.91.

Phoenix

King's Raven Winery, Oregon City, Oregon, petitioned TTB to add “Phoenix” to the list of approved grape names. Phoenix is a white Vitis vinifera variety developed in Germany as a cross of Bacchus weiss and Villard blanc. The petitioner submitted a number of published references to Phoenix, including a listing in UC Davis's National Grape Registry, along with evidence that two other American vineyards grow the variety.

Although TTB believes that the petition contains sufficient evidence under § 4.93 to approve the name “Phoenix,” TTB opted to propose adding the name to the list of grape variety names through rulemaking action rather than approve it administratively due to potential conflicts with existing COLAs. An electronic search of TTB's COLAs online database for the word “Phoenix” disclosed 174 COLAS that use the word “Phoenix” on a wine label as part of a brand or fanciful name. Of these, 40 have been approved since 2012 for 12 different wineries. The use of a grape variety name in a brand name potentially could be misleading and prohibited under § 4.39. If the name Phoenix is approved as a grape variety name, these labels potentially could be misleading, particularly if they do not also contain a grape varietal designation. Because of this potential impact on current labels, TTB believes that the label holders should be given an opportunity to comment on this proposal. Those comments will better inform TTB as to whether the grape variety name should be approved and thus added to the list of approved names in § 4.91.

Picardan

Tablas Creek Vineyard, Paso Robles, California, petitioned TTB to add “Picardan” to the list of approved grape variety names. Picardan is a white Vitis vinifera variety associated with the Rhône region of France, where it is one of the thirteen authorized varieties permitted in the Châteauneuf-du-Pape appellation of origin. As part of the petition, Tablas Creek submitted a letter of support for approval of the name from the director of FPS, Dr. Deborah Golino. In her letter, Dr. Golino states that Picardan plant material was imported from France to FPS, where it was tested and found to be free of viruses, then planted in FPS's Classic Foundation Vineyard. The variety is currently available for sale to the public at FPS. In addition to the letter from Dr. Golino, the petitioner also submitted several published references to Picardan. Based on this evidence, TTB proposes to add Picardan to the list of grape variety names in § 4.91.

Pinot Bianco

Rodrigue Molyneaux Winery, Livermore, California, petitioned TTB to add “Pinot bianco” to the list of approved grape variety names as a synonym for the currently listed “Pinot blanc.” Pinot bianco is the Italian name for this white wine variety, while Pinot blanc is the French name. The petitioner, who specializes in Italian grape varieties, believes that it would be confusing to customers if it labeled its Pinot bianco wines with the French name for the variety. As evidence of the validity of the synonym “Pinot bianco,” the petitioner cited a Web site about Italian varieties grown in California that refers to the variety by that name (see http://www.cal-italia.org/wine.html). Additionally, two wine reference books state that Pinot bianco is the Italian name for Pinot blanc, “The Oxford Companion to Wine” (Robinson, 1999 edition, p. 533) and “Oz Clarke's Encyclopedia of Grapes” (2001, p. 171). Based on this evidence, TTB proposes to add Pinot bianco to the list of grape variety names in § 4.91 as a synonym of Pinot blanc.

Plymouth

Girouard Vines, Tulsa, Oklahoma, petitioned TTB to add “Plymouth” to the list of approved grape variety names. Plymouth is a red wine grape developed by George E. Girouard by crossing Merlot with Vitis aestivalis JG #3. As evidence of the grape's acceptance and name validity, the petitioner submitted a listing for Plymouth from the May 2012 HortScience's Register of New Fruit and Nut Cultivars. The petitioner states that the variety is currently grown in Oklahoma and California, and it plans to release a wine made from Plymouth in 2015. Based on this evidence, TTB proposes to add Plymouth to the list of grape variety names in § 4.91.

Ribolla Gialla

Vare Vineyards, Napa, California, petitioned TTB to add “Ribolla Gialla” to the list of approved grape variety names. Ribolla Gialla is a white Vitis vinifera variety that has long grown in the Friuli region of Italy and in Slovenia. The petitioner states it has grown the variety and produced wine from it since 2004. The petitioner further states it sold grapes from the 2009 harvest to seven other wineries. As additional evidence, the petitioner cited a number of wine reference books that refer to the variety. Ribolla Gialla is also listed in UC Davis's National Grape Registry, which at the time of the petition listed three California nurseries selling the variety. Based on this evidence, TTB proposes to add Ribolla Gialla to the list of grape variety names in § 4.91.

Rieslaner

Mokelumne Glen Vineyards, Lodi, California, petitioned TTB to add “Rieslaner” to the list of approved grape variety names. Rieslaner is a white Vitis vinifera variety developed in Germany in 1921 as a cross of Riesling and Silvaner. According to the petitioner, it obtained its Rieslaner as cuttings from the New York State Agricultural Experiment Station many years ago and has been using it in wine blends. To satisfy the requirements of § 4.93, the petitioner cited a number of wine reference books that refer to Rieslaner, including “The Oxford Companion to Wine” (Robinson, 2006 edition, p. 577), and “Production of Grapes and Wines in Cool Climates” (David Jackson and Danny Schuster, 1986, p. 108). Based on this evidence, TTB proposes to add Rieslaner to the list of grape variety names in § 4.91.

Riverbank

Wild Grape Vineyards, Kindred, North Dakota, petitioned TTB to add “Riverbank” to the list of approved grape variety names. Riverbank (Vitis riparia) is a red variety native to North America that grows wild in the central and northeastern sections of the United States and Canada. To satisfy the requirements of § 4.93, the petitioner submitted evidence that at least one North Dakota nursery sells Riverbank vines and that at least one South Dakota winery sells wine produced from the variety. The petitioner also noted that the University of Minnesota has used the Riverbank variety in its grape breeding program to breed varieties with cold tolerance (see http://www.arboretum.umn.edu/grapesandwine.aspx). Based on this evidence, TTB proposes to add Riverbank to the list of grape variety names in § 4.91.

Rose of Peru

Galleano Winery, Mira Loma, California, petitioned TTB to add “Rose of Peru” to the list of approved grape variety names. Rose of Peru is a red Vitis vinifera variety, long grown in California, that DNA evidence has disclosed to be identical to the Mission variety, which is currently approved under § 4.91. To satisfy the requirements of § 4.93, the petitioner submitted a number of published references to the name “Rose of Peru,” including a February 12, 2007, article from Wine Spectator magazine entitled “Researchers Uncover Identity of Historic California Grape” about the Mission grape variety. According to this article, DNA research conducted at the Centro Nacional de Biotecnologia in Spain found the Rose of Peru variety to be identical to Mission. The results of this research were published in the article “Determining the Spanish Origin of Representative Ancient American Grapevine Varieties” (Tapia, et al.) from the June 2007 American Journal of Enology & Viticulture (vol. 58, no. 2, pp. 242-251). Based on this evidence, TTB proposes to add Rose of Peru to the list of grape variety names in § 4.91 as a synonym for Mission.

Saperavi

Standing Stone Vineyards, Hector, New York, petitioned TTB to add “Saperavi” to the list of approved grape variety names. Saperavi is a red Vitis vinifera variety that originates from the country of Georgia. To satisfy the requirements of § 4.93, the petitioner cited several published references to Saperavi. These include “The Concise Atlas of Wine” (Hugh Johnson and Jancis Robinson, 2009, pp. 227-229), and an article from the trade journal Vineyard & Winery Management entitled “(The Republic of) Georgia on Their Minds” (November/December 2010), which notes that a number of vineyards in the Northeastern United States are growing Saperavi. According to evidence submitted by the petitioner, three wineries in the Finger Lakes region of New York (including the petitioner) are growing the variety and producing wine from it. In addition, a New York nursery sells Saperavi, and the variety is listed in UC Davis's National Grape Registry. Based on this evidence, TTB proposes to add Saperavi to the list of grape variety names in § 4.91.

Schönburger

Plum Hill Vineyards, Gaston, Oregon, petitioned TTB to add “Schönburger” to the list of approved grape variety names. Schönburger is a Vitis vinifera variety with pink berries developed in Germany in 1979 from a crossing of Pinot Noir, Chasselas Rosé, and Muscat Hamburg. A cool climate variety, it is currently grown in Germany, England, and the U.S. and Canadian Pacific Northwest. To satisfy the requirements of § 4.93, the petitioner cited a number of published references to Schönburger, including “The Oxford Companion to Wine” (Robinson, 2006 edition, p. 622). UC Davis's National Grape Registry lists Schönburger and notes that two Washington State University facilities sell the variety to the public. The petitioner states it has 1.5 acres of Schönburger from which it plans to produce 600 cases of wine. Based on this evidence, TTB proposes to add Schönburger to the list of grape variety names in § 4.91.

Sheridan

Blackhawk Winery, Sheridan, Indiana, petitioned TTB to add “Sheridan” to the list of approved grape variety names. Sheridan, an interspecific cross of Herbert and Worden, was bred at the New York State Agricultural Experiment Station and released in 1921. Black in color, it is often used as a table grape. Sheridan is listed in UC Davis's National Grape Registry, and is available for sale at two New York nurseries. At the time of the petition, the petitioner was growing Sheridan and planning to produce wine from it. Based on this evidence, TTB proposes to add Sheridan to the list of grape variety names in § 4.91.

Southern Cross

Girouard Vines, Tulsa, Oklahoma, petitioned TTB to add “Southern Cross” to the list of approved grape variety names. Southern Cross is a red wine grape developed by George E. Girouard by crossing Merlot with Vitis aestivalis JG #3. As evidence of the grape's acceptance and name validity, the petitioner submitted a listing for Southern Cross from the May 2012 HortScience's Register of New Fruit and Nut Cultivars. The petitioner stated that the variety is currently grown in Oklahoma and California, and it plans to release a wine made from Southern Cross in 2015. Based on this evidence, TTB proposes to add Southern Cross to the list of grape variety names in § 4.91.

Terret Noir

Tablas Creek Vineyard, Paso Robles, California, petitioned TTB to add “Terret Noir” to the list of approved grape variety names. Terret Noir is a red Vitis vinifera variety associated with the Rhône region of France, where it is one of the 13 authorized varieties permitted in the Châteauneuf-du-Pape appellation of origin. As part of the petition, Tablas Creek submitted a letter of support for approval of the Terret Noir variety from the director of FPS, Dr. Deborah Golino. In her letter, Dr. Golino states that Terret Noir plant material was imported from France to FPS, where it was tested and found to be free of viruses, then planted in FPS's vineyards. The variety is currently available for sale to the public at FPS. In addition to the letter from Dr. Golino, the petitioner also submitted several published references to Terret Noir as evidence of the variety's acceptance and name validity. Based on this evidence, TTB proposes to add Terret Noir to the list of grape variety names in § 4.91.

Tinta Amarela

Abacela Winery, Roseburg, Oregon, petitioned TTB to add “Tinta Amarela” to the list of approved grape variety names. Tinta Amarela is a black Vitis vinifera grape that originated in Portugal, where it is commonly used in port. To satisfy the requirements of § 4.93, the petitioner submitted several published references to Tinta Amarela from wine reference books and wine Web sites. The petitioner also noted that the entry for Tinta Amarela in UC Davis's National Grape Registry lists eight U.S. nurseries that sell the variety. Based on this evidence, TTB proposes to add Tinta Amarela to the list of grape variety names in § 4.91.

Tinta Cao

Cypher Winery, Paso Robles, California, petitioned TTB to add “Tinta Cao” to the list of approved grape variety names. Tinta Cao is a synonym for “Tinto cão,” a name already listed in § 4.91. As evidence that Tinta Cao is a valid name for the variety, the petitioner submitted a copy of the 2008 California Grape Crush Report, issued by the California Department of Food and Agriculture. The publication, referring to “Tinta Cao,” reports that 408.6 tons of the grape were crushed in California that year. Additionally, UC Davis's National Grape Register lists “Tinta Cao” as a synonym for Tinto cão and TTB is aware of at least one California vineyard selling the variety by the proposed name. Based on this evidence, TTB proposes to add Tinta Cao to the list of grape variety names in § 4.91 as a synonym for Tinto cão.

Tinta Roriz

Cypher Winery, Paso Robles, California, petitioned TTB to add “Tinta Roriz” to the list of approved grape variety names. Tinta Roriz is a synonym for “Tempranillo” and “Valdepeñas,” names already listed in § 4.91. As evidence that Tinta Roriz is a valid name for the variety, the petitioner submitted a copy of the 2008 California Grape Crush Report, which refers to Tinta Roriz as a synonym for Tempranillo and Valdepeñas. UC Davis's National Grape Registry contains a separate listing for Tinta Roriz, but notes that it is a Portuguese name for the grape variety known in Spain as Tempranillo. If the name “Tinta Roriz” is approved, three names for this variety will appear in § 4.91. TTB believes that the evidence warrants the approval of Tinta Roriz. However, we welcome comments on this issue. Based on the above evidence, TTB proposes to add Tinta Roriz to the list of grape variety names in § 4.91.

Touriga Nacional

Cypher Winery, Paso Robles, California, petitioned TTB to add “Touriga Nacional” to the list of approved grape variety names. Touriga Nacional is a black Vitis vinifera grape variety originally from Portugal. To satisfy the requirements of § 4.93, the petitioner submitted a copy of the 2008 California Grape Crush Report, issued by the California Department of Food and Agriculture. This publication reports that 914.5 tons of Touriga Nacional were crushed in California that year. Also, UC Davis's National Grape Registry contains an entry for Touriga Nacional, and it lists 12 nurseries selling the variety. Based on this evidence, TTB proposes to add Touriga Nacional to the list of grape variety names in § 4.91.

The name “Touriga” is currently listed in § 4.91, which the petitioner contends is similar to listing “Cabernet Sauvignon” as “Cabernet.” However, the petitioner did not request the removal of “Touriga” from the list, nor did it submit any evidence for such a removal. TTB is aware that there are other grape variety names that include “Touriga” as part of the name (the National Grape Registry also lists “Touriga Franca” and “Touriga Brasileira”). Because bottlers of wines produced from these grapes may be utilizing the name “Touriga,” TTB proposes to keep the name on the list for now. However, we welcome comments regarding the accuracy of the name “Touriga.”

Vaccarèse

Tablas Creek Vineyard, Paso Robles, California, petitioned TTB to add “Vaccarèse” to the list of approved grape variety names. Vaccarèse is a red Vitis vinifera variety associated with the Rhône region of France, where it is one of the 13 authorized varieties permitted in the Châteauneuf-du-Pape appellation of origin. As part of the petition, Tablas Creek submitted a letter of support from the director of FPS, Dr. Deborah Golino. In her letter, Dr. Golino states that Vaccarèse plant material was imported from France to FPS, where it was tested and found to be free of viruses, then planted in FPS's Russell Ranch Foundation Vineyard. The variety is currently available for sale to the public at FPS. In addition to the letter from Dr. Golino, the petitioner also submitted several published references to Vaccarèse. Based on this evidence, TTB proposes to add Vaccarèse to the list of grape variety names in § 4.91.

Valjohn

Girouard Vines, Tulsa, Oklahoma, petitioned TTB to add “Valjohn” to the list of approved grape variety names. Valjohn is a red wine grape developed by George E. Girouard by crossing Cabernet Franc with Vitis aestivalis JG # 3. To satisfy the requirements of § 4.93, the petitioner submitted a listing for Valjohn from the May 2012 HortScience's Register of New Fruit and Nut Cultivars. The petitioner stated that the variety is currently grown in Oklahoma and California, and that it plans to release a wine made from Valjohn in 2015. Based on this evidence, TTB proposes to add Valjohn to the list of grape variety names in § 4.91.

Verdejo

Berryessa Gap Vineyards, Winters, California, petitioned TTB to add “Verdejo” to the list of approved grape variety names. Verdejo is a white Vitis vinifera variety that has grown for centuries in the Rueda region of Spain. To satisfy the requirements of § 4.93, the petitioner cites a number of published references to Verdejo, including in “The Oxford Companion to Wine” (Robinson, 2006 edition) and the American Journal of Enology and Viticulture. Separately, TTB received a letter of support for the petition from the director of FPS, Dr. Deborah Golino. She reports that FPS imported the variety in 2000 and since 2006 has distributed more than 750 Verdejo cuttings or plants to California vineyards. According to UC Davis's National Grape Registry, five nurseries sell Verdejo to the public. Based on this evidence, TTB proposes to add Verdejo to the list of grape variety names in § 4.91.

Technical Correction

TTB has become aware of a technical error in § 4.91 in that the grape variety name “Madeleine Angevine” is currently misspelled as “Madeline Angevine.” TTB proposes to correct this error in this document. TTB also proposes to allow the use of the spelling “Madeline Angevine” for a period of 1 year after publication of a final rule on this matter so that anyone holding a COLA with the misspelling has sufficient time to obtain new labels. If this proposal is adopted as a final rule, at the end of the 1-year period, holders of approved “Madeline Angevine” labels must discontinue their use as their certificates of label approval will be revoked by operation of the final rule (see 27 CFR 13.51 and 13.72(a)(2)). TTB believes the 1-year period will provide such label holders with adequate time to use up their supply of previously approved “Madeline Angevine” labels. This proposal appears in a new paragraph (e) of 27 CFR 4.92.

Public Participation

Comments Sought

TTB requests comments from members of the public, particularly any person whose use of an approved label might be impacted by final approval of the grape variety names that are the subject of this proposed rule. TTB is also interested in comments that might bring into question whether an added grape name is accurate and appropriate for the designation of American wines. TTB is particularly interested in comments concerning the grape name discussed above that TTB did not approve by letter, Phoenix, as well as Geneva Red 7, the grape name we are proposing to replace with the name “Geneva Red.” Finally, TTB invites comment on any other issue raised by this notice of proposed rulemaking. Please support your comment with specific information about the grape varietal name in question.

Submitting Comments

You may submit comments on this notice by using one of the following three methods:

• Federal e-Rulemaking Portal: You may send comments via the online comment form posted with this proposed rule within Docket No. TTB-2016-0011 on “Regulations.gov,” the Federal e-rulemaking portal, at https://www.regulations.gov. A direct link to that docket is available under Notice No. 165 on the TTB Web site at https://www.ttb.gov/wine/wine-rulemaking.shtml. Supplemental files may be attached to comments submitted via Regulations.gov. For complete instructions on how to use Regulations.gov, click on the site's “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 400E, Washington, DC 20005.

Please submit your comments by the closing date shown above in this proposed rule. Your comments must reference Notice No. 165 and include your name and mailing address. Your comments also must be made in English, be legible, and be written in language acceptable for public disclosure. TTB does not acknowledge receipt of comments and considers all comments as originals.

In your comment, please clearly state if you are commenting for yourself or on behalf of an association, business, or other entity. If you are commenting on behalf of an entity, your comment must include the entity's name as well as your name and position title. In your comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this proposed rule and any online or mailed comments received about this proposal within Docket No. TTB-2016-0011 on the Federal e-rulemaking portal. A direct link to that docket is available on the TTB Web site at https://www.ttb.gov/wine/wine-rulemaking.shtml under Notice No. 165. You may also reach the relevant docket through the Regulations.gov search page at https://www.regulations.gov. For information on how to use Regulations.gov, click on the site's “Help” tab.

All posted comments will display the commenter's name, organization (if any), city, and State, and, in the case of mailed comments, all address information, including email addresses. TTB may omit voluminous attachments or material that it considers unsuitable for posting.

You may view copies of this proposed rule and any electronic or mailed comments TTB receives about this proposal by appointment at the TTB Information Resource Center, 1310G Street NW., Washington, DC 20005. You may also obtain copies for 20 cents per 8.5- x 11-inch page. Contact TTB's information specialist at the above address or by telephone at 202-453-2270 to schedule an appointment or to request copies of comments or other materials.

Regulatory Flexibility Act

TTB certifies that this proposed regulation, if adopted, will not have a significant economic impact on a substantial number of small entities. The decision of a grape grower to petition for a grape variety name approval, or the decision of a wine bottler to use an approved name on a label, is entirely at the discretion of the grower or bottler. This proposed regulation does not impose any new reporting, recordkeeping, or other administrative requirements. Accordingly, a regulatory flexibility analysis is not required.

Executive Order 12866

It has been determined that this proposed rule is not a significant regulatory action as defined by Executive Order 12866 of September 30, 1993. Therefore, no regulatory assessment is required.

Drafting Information

Jennifer Berry of the Regulations and Rulings Division, Alcohol and Tobacco Tax and Trade Bureau, drafted this document.

List of Subjects in 27 CFR Part 4

Administrative practice and procedure, Advertising, Customs duties and inspection, Imports, Labeling, Packaging and containers, Reporting and recordkeeping requirements, Trade practices, Wine.

Proposed Regulatory Amendment

For the reasons discussed in the preamble, TTB proposes to amend 27 CFR, chapter I, part 4 as set forth below:

PART 4—LABELING AND ADVERTISING OF WINE

1. The authority citation for 27 CFR part 4 continues to read as follows:

Authority: 27 U.S.C. 205, unless otherwise noted.

2. In § 4.91, the list of grape variety names following the introductory text is amended by removing the entries for “Geneva Red 7,” “Lenoir,” “Madeline Angevine,” “Mission,” “Pinot blanc,” “Tempranillo (Valdepeñas),” “Tinto cão,” and “Valdepeñas (Tempranillo),” and by adding new entries in alphabetical order to read as follows:

§ 4.91 List of approved names.

* * * * *

Amigne

Arandell

* * * * *

Aromella

Arvine

* * * * *

Bianchetta trevigiana

* * * * *

Black Spanish (Jacquez, Lenoir)

* * * * *

Bluebell

* * * * *

Bourboulenc

Brachetto

* * * * *

By George

* * * * *

Caladoc

* * * * *

Caprettone

* * * * *

Chisago

* * * * *

Coda di Volpe

* * * * *

Diana

* * * * *

Esprit

Falanghina

* * * * *

Geneva Red

* * * * *

Godello

* * * * *

Gros Manseng

* * * * *

Humagne Rouge

* * * * *

Jacquez (Black Spanish, Lenoir)

* * * * *

Jupiter

* * * * *

King of the North

* * * * *

Lambrusca di Alessandria

* * * * *

Lenoir (Black Spanish, Jacquez)

* * * * *

Loureiro

* * * * *

Madeleine Angevine

Madeleine Sylvaner

* * * * *

Marquis

* * * * *

Marselan

* * * * *

Mission (Rose of Peru)

* * * * *

Mustang

* * * * *

Petite Pearl

* * * * *

Phoenix

Picardan

* * * * *

Pinot bianco (Pinot blanc)

Pinot blanc (Pinot bianco)

* * * * *

Plymouth

* * * * *

Ribolla Gialla

Rieslaner

* * * * *

Riverbank

* * * * *

Rose of Peru (Mission)

* * * * *

Saperavi

* * * * *

Schönburger

* * * * *

Sheridan

* * * * *

Southern Cross

* * * * *

Tempranillo (Tinta Roriz, Valdepeñas)

Terret Noir

* * * * *

Tinta Amarela

Tinta Cao (Tinto cão)

* * * * *

Tinta Roriz (Tempranillo, Valdepeñas)

Tinto cão (Tinta Cao)

* * * * *

Touriga Nacional

* * * * *

Vaccarèse

Valdepeñas (Tempranillo, Tinta Roriz)

* * * * *

Valjohn

* * * * *

Verdejo

* * * * *

3. Section 4.92 is amended by adding paragraph (e) to read as follows:

§ 4.92 Alternative names permitted for temporary use.

* * * * *

(e) Wines bottled prior to [date 1 year after publication of the final rule in the Federal Register].

Alternative Name/Name

Geneva Red 7—Geneva Red

Madeline Angevine—Madeleine Angevine

Signed: September 29, 2016.
John J. Manfreda,
Administrator.
Approved: November 3, 2016.
Timothy E. Skud,
Deputy Assistant Secretary (Tax, Trade, and Tariff Policy).

[FR Doc. 2016-27573 Filed 11-16-16; 8:45 am]

BILLING CODE 4810-31-P